NATIONAL CREDIT UNION ADMINISTRATION

Sunshine Act Meetings

TIME AND DATE: 10:00 a.m., Thursday, June 24, 2021.

PLACE: Due to the COVID-19 Pandemic, the meeting will be open to the public via live webcast only. Visit the agency's homepage (www.ncua.gov) and access the provided webcast link.

STATUS: This meeting will be open to the public.

MATTERS TO BE CONSIDERED:

1. Board Action, Federal Credit Union Loan Interest Rate Ceiling.

2. NCUA Rules and Regulations, Current Expected Credit Loss Methodology.

3. NCUA Rules and Regulations, Capitalization of Interest.

CONTACT PERSON FOR MORE INFORMATION: Melane Conyers-Ausbrooks, Secretary of the Board, Telephone: 703-518-6304.

Melane Conyers-Ausbrooks,
Secretary of the Board.

[FR Doc. 2021-13237 Filed 6-21-21; 11:15 am]

BILLING CODE 7535-01-P